SMALL BUSINESS ADMINISTRATION

[Declaration of Disaster #P007]

State of Tennessee

As a result of the President's major disaster declaration for Public Assistance on March 20, 2003 the U.S. Small Business Administration is activating its disaster loan program only for private non-profit organizations that provide essential services of a governmental nature. I find that Anderson, Bledsoe, Campbell, Cannon, Carter, Claiborne, Cumberland, Decatur, Fentress, Grainger, Hancock, Houston, Humphreys, Jackson, Johnson, Lewis, Loudon, Marion, Meigs, Rhea, Roane, Scott, Sequatchie, Stewart, Union and Van Buren Counties in the State of Tennessee constitute a disaster area due to damages caused by severe storms and flooding occurring from February 14, 2003 and continuing through February 26, 2003. Applications for loans for physical damage as a result of this disaster may be filed until the close of business on May 19, 2003 at the address listed below or other locally announced locations: U.S. Small Business Administration, Disaster Area 2 Office, One Baltimore Place, Suite 300, Atlanta, GA 30308.

The interest rates are:

| Percent
For Physical Damage:
Non-Profit Organizations Without Credit Available Elsewhere | 3.189
Non-Profit Organizations With Credit Available Elsewhere | 5.500

The number assigned to this disaster for physical damage is P00711.

(Catalog of Federal Domestic Assistance Program Nos. 59008)
Dated: March 21, 2003.
Herbert L. Mitchell,
Associate Administrator for Disaster Assistance.

[FR Doc. 03-7460 Filed 3-27-03; 8:45 am]

BILLING CODE 8025-01-P